ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Thursday through Friday, September 6-7, 2018 at the times and location listed below.

DATES: The schedule of events is as follows:

Thursday, September 6, 2018

9:30 a.m.-5:00 p.m. Information Meeting on Assembly Areas

Friday, September 7, 2018

9:00 a.m.-9:30 a.m. Budget Committee

9:30 a.m.-10:00 a.m. Planning and Evaluation Committee

10:00 a.m.-11:00 a.m. Technical Programs Committee

11:00 a.m.-Noon National Council on Disability Briefing; Closed to public

1:30 p.m.-3:30 p.m. Celebration of the 50th Anniversary of the Architectural Barriers Act

ADDRESSES: Meetings will be held at the Access Board Conference Room, 1331 F Street NW, Suite 800, Washington, DC 20004.

FOR FURTHER INFORMATION CONTACT: For further information regarding the meetings, please contact David Capozzi, Executive Director, (202) 272-0010 (voice); (202) 272-0054 (TTY).

SUPPLEMENTARY INFORMATION: In lieu of its regularly scheduled Board meeting, the Access Board plans to hold a special event celebrating 50 years of the Architectural Barriers Act (ABA). Guest presentations include Judith E. Heumann from the Ford Foundation and federal agencies that issue accessibility standards under the ABA. Registration for this event is not required and members of the public are invited to join the celebration and a reception that follows. This event will be live streamed with captioning. More information about the ABA Anniversary can be found at: https://www.access-board.gov/news/1935-access-board-to-celebrate-50-years-of-the-architectural-barriers-act.

All meetings are accessible to persons with disabilities. An assistive listening system, Communication Access Realtime Translation (CART), and sign language interpreters will be available at the ABA anniversary event and committee meetings.

Persons attending Board meetings are requested to refrain from using perfume, cologne, and other fragrances for the comfort of other participants (see www.access-board.gov/the-board/policies/fragrance-free-environment for more information).

You may view the Friday, September 7, 2018 ABA event through a live webcast from 1:30 p.m. to 3:30 p.m. at: www.access-board.gov/webcast.

David M. Capozzi,
Executive Director.

[FR Doc. 2018-18299 Filed 8-23-18; 8:45 am]

BILLING CODE 8150-01-P